DEPARTMENT OF AGRICULTURE

Submission for OMB Review; Comment Request

April 12, 2022.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by May 16, 2022 will be considered. Written comments and recommendations for the proposed information collection should be submitted within 30 days of the publication of this notice on the following website www.reginfo.gov/public/do/PRAMain. Find this information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: Federal-State Supplemental Nutrition Programs Agreement (Form FNS-339).

OMB Control Number: 0584-0332.

Summary of Collection: The Federal-State Supplemental Nutrition Programs Agreement (form FNS-339) is an annual contract between the U.S. Department of Agriculture (USDA) and each State, Territory, and Indian Tribal Government agency seeking to operate one or more of the following programs: The Special Supplemental Nutrition Program for Women, Infants and Children (WIC), the WIC Farmers' Market Nutrition Program (FMNP), and the Seniors Farmers' Market Nutrition Program (SFMNP). The Food and Nutrition Service (FNS), of the USDA, is authorized to administer the WIC and the FMNP Programs under the following authority: Section 17 of the Child Nutrition Act (CNA) of 1966, as amended, and the SFMNP under 7 U.S.C. 3007.

Need and Use of the Information: The FNS-339 requires the signature of the Chief State agency official and includes a certification/assurance regarding drug free workplace, a certification regarding lobbying, and a disclosure of lobbying activities. The signed agreement thereby authorizes USDA/FNS to make funds available to State agencies for the administration of the WIC, FMNP, and/or SFMNP Programs within the State, Indian Tribal Organizations, District of Columbia, and Territories, and in accordance with 7 Code of Federal Regulations (CFR) parts 246, 248, and 249. The State agency agrees to accept Federal funds for expenditure in accordance with applicable statutes and regulations and to comply with all the provisions of such statutes and regulations, and amendments thereto.

Description of Respondents: State, Local, or Tribal government.

Number of Respondents: 127.

Frequency of Responses: Reporting: Annually.

Total Burden Hours: 32.

Ruth Brown,
Departmental Information Collection Clearance Officer.

[FR Doc. 2022-08093 Filed 4-14-22; 8:45 am]

BILLING CODE 3410-30-P